DEPARTMENT OF COMMERCE

National Oceanic and Atmospheric Administration

RIN 0648-XE391

Gulf of Mexico Fishery Management Council; Public Meeting

AGENCY: National Marine Fisheries Service (NMFS), National Oceanic and Atmospheric Administration (NOAA), Commerce.

ACTION: Notice of a public meeting.

SUMMARY: The Gulf of Mexico Fishery Management Council (Council) will hold a four-day meeting to consider actions affecting the Gulf of Mexico fisheries in the exclusive economic zone (EEZ).

DATES: The meeting will be held on Monday, Tuesday, Wednesday, and Thursday, January 25-28, 2016, starting at 8:30 a.m. daily.

ADDRESSES: The meeting will be held at the Perdido Beach Resort, 27200 Perdido Beach Boulevard, Orange Beach, AL 36561; telephone: (251) 981-9811.

Council address: Gulf of Mexico Fishery Management Council, 2203 N. Lois Avenue, Suite 1100, Tampa, FL 33607; telephone: (813) 348-1630.

FOR FURTHER INFORMATION CONTACT: Douglas Gregory, Executive Director, Gulf of Mexico Fishery Management Council; telephone: (813) 348-1630.

SUPPLEMENTARY INFORMATION:

Agenda

Monday, January 25, 2016; 8:30 a.m.-5 p.m.

The Gulf Council will begin with updates and presentations from management committees. The Joint Administrative Policy & Budget Management Committee will review the Ad Hoc Advisory Panels and appointment terms. Under other business, the committee will hear an update on the Advisory Panel background checks by the Gulf States. The Data Collection Committee will receive a presentation on transition considerations for Charter Vessel Electronic Reporting, review Final Action—Electronic Charter Vessel Reporting Amendment and public comments. The Shrimp Management Committee will discuss final action on Shrimp Amendment 17A—Addressing the Expiration of the Shrimp Permit Moratorium. They will receive a summary from the public hearings and written comments; review draft codified text; and have a discussion on NOAA's Turtle Excluder Device (TED) Enforcement Boarding Form. After lunch, the Reef Fish Management Committee will review the Scientific and Statistical Committee (SSC) Summary Report, and discuss Draft Reef Fish Amendment 43—To Add West Florida Hogfish Stock to Fishery Management Unit (FMU) and establish Annual Catch Limits (ACL). They will also review a draft framework action to modify gear restrictions for yellowtail snapper; review the scoping document for Amendment 33—Reef Fish Limited Access Privilege Program, and discuss Amendment 36—Red Snapper Individual Fishing Quotas (IFQ) Modifications.

Tuesday, January 26, 2016; 8:30 a.m.-5 p.m.

The Reef Fish Management Committee will discuss taking final action on Reef Fish Amendment 39—Regional Management of Recreational Red Snapper; and, review draft Amendment 41—Red Snapper Management for Federally Permitted Charter Vessels and draft Amendment 42—Federal Reef Fish Headboat Management. After lunch, the committee will discuss draft Options—Red Snapper Recreational annual catch target (ACT) Adjustment and National Marine Fisheries Service (NMFS) season projection and probability methodology. The Reef Fish Management Committee will discuss gray triggerfish acceptable biological catch (ABC) recommendations and provide guidance to staff on the rebuilding plan parameters. Finally, the Reef Fish Management Committee will discuss the Ad Hoc Private Recreational Advisory Panel, and review any other business.

Wednesday, January 27, 2016; 8:30 a.m.-5:30 p.m.

The Mackerel Management Committee will review the Joint Public Hearing Draft for Coastal Migratory Pelagics (CMP) Amendment 26—Changes in Allocations, Stock Boundaries and Sale Provisions for Gulf of Mexico and Atlantic Migratory Groups of King Mackerel; and review the CMP Advisory Panel recommendations.

The Full Council will convene mid-morning with a Call to Order, Announcements and Introductions; Adoption of Agenda and Approval of Minutes; and review Exempt Fishing Permit (EFPs) Applications, if any. The Council will then receive presentations on Landing Summaries, Illegal Unreported and Unregulated Fishing and Seafood Traceability, and NOAA's Catch Share Review Guidelines. After lunch, the Council will receive public testimony (1:30 p.m.-5:30 p.m.) on Final Action Reef Fish Amendment 39—Regional Management of Recreational Red Snapper, Final Action Generic Electronic Charter Vessel Reporting Amendment, and for Final Action Shrimp Amendment 17A—Addressing the Expiration of the Shrimp Permit Moratorium; and hold an open public comment period regarding any other fishery issues or concern. People wishing to speak before the Council should complete a public comment card prior to the comment period.

Thursday, January 28, 2016; 8:30 a.m.-4 p.m.

The Council will receive committee reports from the Administrative Policy/Budget, Mackerel, Data Collection, Shrimp, and Reef Fish Management Committees; and, vote on Exempted Fishing Permits (EFP) applications, if any. Lastly, the Council will discuss Other Business items; and receive summary reports from supporting agencies: South Atlantic Council, Gulf States Marine Fisheries Commission, U.S. Coast Guard, U.S. Fish and Wildlife Service, and Department of State.

Meeting Adjourns

The timing and order in which agenda items are addressed may change as required to effectively address the issue. The latest version will be posted on the Council's file server, which can be accessed by going to the Council's Web site at http://www.gulfcouncil.org and clicking on FTP Server under Quick Links. For meeting materials, select the “Briefing Books/Briefing Book 2016-01” folder on Gulf Council file server. The username and password are both “gulfguest”. The meetings will be webcast over the internet. A link to the webcast will be available on the Council's Web site, http://www.gulfcouncil.org.

Although other non-emergency issues not contained in this agenda may come before this Council for discussion, those issues may not be the subjects of formal action during this meeting. Council action will be restricted to those issues specifically listed in this notice and any issues arising after publication of this notice that require emergency action under section 305(c) of the Magnuson-Stevens Act, provided that the public has been notified of the Council's intent to take final action to address the emergency.

Special Accommodations

This meeting is physically accessible to people with disabilities. Requests for sign language interpretation or other auxiliary aids should be directed to Kathy Pereira (see ADDRESSES) at least 5 days prior to the meeting date.

Dated: January 5, 2016.
Jeffrey N. Lonergan,
Acting Deputy Director, Office of Sustainable Fisheries, National Marine Fisheries Service.

[FR Doc. 2016-00140 Filed 1-7-16; 8:45 am]

BILLING CODE 3510-22-P